DEPARTMENT OF AGRICULTURE

Forest Service

Inyo, Plumas, and Stanislaus National Forests; Mono, Inyo, Plumas, and Tuolumne Counties, California; Mammoth Base Land Exchange

AGENCY: Forest Service, USDA.

ACTION: Notice of intent to prepare an environmental impact statement.

SUMMARY: In compliance with the National Environmental Policy Act of 1969, as amended (NEPA), and the Federal Land Policy and Management Act of 1976, as amended (FLPMA), the Inyo, Plumas, and Stanislaus National Forests intend to prepare and Environmental Impact Statement (EIS) to evaluate a proposed land exchange pursuant to section 206 of FLPMA, 43 U.S.C. 1716, and by this notice is announcing the beginning of the scoping process to solicit public comments and identify issues. The proposed exchange includes the conveyance of approximately 1,317.5 acres of a non-Federal land owned by Mammoth Main Lodge Redevelopment LLC (MMLR) to the United States in exchange for 30.6 acres of Federal land in the Inyo National Forest. The non-Federal parcels are located in Mono, Inyo, Plumas and Tuolumne Counties. The Federal parcels are located in Mono County.

DATES: Comments concerning the scope of the analysis must be received 45 days from date of publication in the Federal Register. A public open house regarding this proposal will be held on September 8, 2016 (see the SUPPLEMENTARY INFORMATION section for further information on the open house).

ADDRESSES: Send written comments to: Edward Armenta, Forest Supervisor, c/o Janelle Walker, Winter Sports Specialist, Inyo National Forest, PO Box 148, Mammoth Lakes, CA 93546, FAX; (760) 924-5537 or by email to: comments-pacificsouthwest-inyo@fs.fed.us (please include “Mammoth Base Land Exchange EIS” in the subject line). Comments may also be submitted on the project Web site: http://www.fs.fed.us/nepa/fs-usda-pop.html?project=30428.

FOR FURTHER INFORMATION CONTACT: Additional information related to the proposed project can be obtained from the project Web site, http://www.fs.fed.us/nepa/fs-usda-pop.html?project=30428, or by contacting Janelle Walker, Winter Sports Specialist, Inyo National Forest. Ms. Walker can be reached by phone at (760) 924-5523 or by email at janellelwalker@fs.fed.us.

Individuals who use telecommunication devices for the deaf (TDD) may call the Federal Information Relay Service (FIRS) at 1-800-877-8339 between 8 a.m. and 8 p.m., Eastern Time, Monday through Friday.

SUPPLEMENTARY INFORMATION:

Purpose of the Land Exchange

(1) To acquire environmentally sensitive lands and an administrative site to better meet resource and other management goals of the National Forests as outlined in the respective Land and Resource Management Plans of the National Forests involved in this exchange; and

(2) To exchange developed lands in the National Forest that encumber adequate management by the United States Forest Service and would better serve the community and economic needs of the Town of Mammoth Lakes and Mono County in private ownership.

Proposed Action

The Proposed Action is to complete a land exchange pursuant to section 206 of FLPMA, 43 U.S.C. 1716. Under the Proposed Action, the United States would convey approximately 30.6 acres of NFS lands within the boundaries of the Inyo National Forest, and currently managed as part of a Ski Area Term Special Use Permit to MMLR. In exchange, MMLR would convey to the United States approximately 1,317.5 acres of privately owned lands (“inholdings”) located within the boundaries of the Inyo, Plumas and Stanislaus National Forests and one small parcel (approximately 1.66 acres) in Inyo County, California that is outside the boundaries of the Inyo National Forest.

Federal Parcels

Under the Proposed Action, two Federal parcels located within the municipal boundary limits of the Town of Mammoth Lakes—totaling approximately 30.6 acres—would be transferred to MMLR. The Federal parcels include an intensely developed tract containing structures that provide lodging and visitor services facilities at the main base area for the Mammoth Mountain Ski Area, and an adjacent tract containing sewage ponds that receive and treat sewage from various Mammoth Mountain Ski Area facilities. The Federal parcels are located adjacent to California State Highway 203, approximately four miles west of the town center of Mammoth Lakes.

Non-Federal Parcels

Under the Proposed Action, 12 non-Federal parcels—totaling approximately 1,317.5 acres—would be transferred to the United States, to be managed by the United States Forest Service.

Six of the non-Federal parcels are located inside the boundaries of the Inyo National Forest. These parcels include the West Mono Lake Parcel (located inside the boundaries of the Congressionally designated Mono Basin National Forest Scenic Area near the west shore of Mono Lake), the Lundy Canyon Parcel (patented mining claims located in or adjacent to the Hoover Wilderness northwest of Mono Lake), the Moran Springs Parcel (located in the Benton Range), Dexter Canyon Parcel (a large inholding southeast of Mono Lake), Madden Parcel (adjacent to Lake Mary Road in the Town of Mammoth Lakes), and the Pine Creek Parcel (located at the trailhead of the Pine Canyon Trail).

The non-Federal parcel located outside the boundaries of the Inyo National Forest is located in Inyo County. The Los Angeles Department of Water and Power (DWP)-Bishop Parcel is located in the City of Bishop, California, adjacent to the White Mountain Ranger District Office of the Inyo National Forest.

One of the non-Federal parcels (Taylor Lake Parcel) is located inside the boundaries of the Plumas National Forest at Taylor Lake east of Greenville, California.

Four of the non-Federal parcels are located inside the boundaries of the Stanislaus National Forest in the Clavey River watershed near Yosemite National Park.

Additional information and maps of this proposal can be found on the project Web site: http://www.fs.fed.us/nepa/fs-usda-pop.html?project=30428

Responsible Official

The Responsible Official is Edward Armenta, Forest Supervisor for the Inyo National Forest.

Nature of Decision To Be Made

The decision to be made is whether to authorize the Proposed Action as described above, modify the Proposed Action to address issues raised in public scoping, or to take no action at this time.

Permits or Licenses Required

Forest Service Special Use Permit

Scoping Process

This notice of intent initiates the scoping process, which guides the development of the environmental impact statement. The Forest Service is soliciting comments from Federal, State and local agencies and other individuals or organizations that may be interested in or affected by implementation of the proposed projects. A public meeting will be held on September 8, 2016 to share information and answer questions about the project. The meeting will be held in the town of Mammoth Lakes at the Council Chambers (Suite Z—437 Old Mammoth Road) from 6 p.m. to 8 p.m.

This project will be subject to 36 CFR 254.8 Notice of Exchange Proposal. Individuals and entities who have submitted timely, specific written comments regarding a proposed project or activity during public comment periods, including this 45-day public scoping period, may file an objection (36 CFR 218.5(a)). Written comments received, including the names and addresses of those who comment, will be considered part of the public record on this proposal and will be available for public inspection (36 CFR 218.25(b)(2)). For purposes of meeting the 36 CFR 218.5 eligibility requirements, the public scoping period will end 45 days from the date the Notice of Exchange Proposal is published in the Federal Register.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however those who only submit anonymous comments will not have standing to appeal the subsequent decision under 36 CFR 215.

Dated: August 18, 2016.
Edward E. Armenta,
Forest Supervisor, Inyo National Forest.

[FR Doc. 2016-20383 Filed 8-25-16; 8:45 am]

BILLING CODE 3411-15-P